DEPARTMENT OF TRANSPORTATION

[Docket No. OST-2007-27407]

National Surface Transportation Infrastructure Financing Commission

AGENCY: Department of Transportation (DOT).

ACTION: Notice of meeting location and time.

SUMMARY: This notice lists the location and time of the second and third meetings of the National Surface Transportation Infrastructure Financing Commission.

FOR FURTHER INFORMATION CONTACT: John V. Wells, Chief Economist, U.S. Department of Transportation, (202) 366-9224, jack.wells@dot.gov.

SUPPLEMENTARY INFORMATION: By Federal Register Notice dated March 12, 2007, the U.S. Department of Transportation (the “Department”) issued a notice of intent to form the National Surface Transportation Infrastructure Financing Commission (the “Financing Commission”), in accordance with the requirements of the Federal Advisory Committee Act (“FACA”) (5 U.S.C. App. 2) and the Safe, Accountable, Flexible, Efficient Transportation Equity Act: A Legacy for Users (“SAFETEA-LU”) (Pub. L. 109-59, 119 Stat. 1144). Section 11142(a) of SAFETEA-LU established the National Surface Transportation Infrastructure Financing Commission and charged it with analyzing the future highway and transit needs and the finances of the Highway Trust Fund and with making recommendations regarding alternative approaches to financing transportation infrastructure. The Financing Commission held its inaugural meeting on April 25, 2007.

Notice of Meeting Location and Time

During its inaugural meeting, the Financing Commission agreed to hold its second and third meetings from 9:30 a.m. to 5 p.m. on Wednesday, June 20, 2007, and Monday, July 16, 2007. Both meetings will be open to the public. The meetings are scheduled to take place at the Oklahoma City Memorial Conference Room on the ground floor of the west wing of the Department's new headquarters building, located at 1200 New Jersey Avenue, SE., Washington, DC 20590.

If you need accommodations because of a disability or require additional information to attend either of these meetings, please contact Robert Mariner in the office of the Assistant Secretary for Transportation Policy via e-mail at robert.mariner@dot.gov, or by phone at (202) 493-0064.

Issued on May 21, 2007.
John V. Wells,
Chief Economist, U.S. Department of Transportation, Designated Federal Official.

[FR Doc. E7-10901 Filed 6-5-07; 8:45 am]

BILLING CODE 4910-9X-P